DEPARTMENT OF THE INTERIOR

Bureau of Land Management

CA-330-1220-AA

Resource Management Plan for Arcata Resource Area, CA

AGENCY: Bureau of Land Management, Interior.

ACTION: Notice.

SUMMARY: Notice is hereby given of Supplementary Rule pertaining to all public lands managed by the Bureau of Land Management (BLM) in the areas known as the Samoa Dunes Recreation Area (T.5N., R.1W., Section 31; T.4N., R.1W., Section 6, Humboldt Meridian) and the Manila Dunes Area of Critical Environmental Concern (ACEC) (T.6N., R.1W., Sections 26, 27, 34 and 35, Humboldt Meridian). Existing rules and regulations have been documented and previously published in the Federal Register and Code of Federal Regulations (CFR) and/or are approved in two land use plans that cover the areas: the Record of Decision, Arcata Resource Area Resource Management Plan, dated April, 1992 and the Decision Record, Arcata Resource Area Resource Management Plan Amendment, dated July, 1995. In accordance with approved land use plans and regulations contained in 43 CFR 8341.2, 43 CFR 8364.1 and 43 CFR 8365.1-6, the Manila Dunes ACEC is closed to all Off Road Vehicle (ORV) use. The Samoa Dunes Recreation Area is closed to all vehicle use one hour after sunset to one hour before sunrise; 175 acres are designated “closed” to all ORV use; 25 acres are designated “limited” to all ORV use; overnight camping is prohibited; and the 40-acre endangered plant protection area is closed to all public use. Vegetative gathering is prohibited between November 1 and May 1 of each year at both Samoa Dunes and Manila Dunes ACEC. The use of firearms and archery equipment are also prohibited in both areas. Employees, agents and permittees of the BLM may be exempt from these rules and regulations as determined by the authorized officer.

EFFECTIVE DATE: This notice is effective February 4. 2000, as all rules and regulations listed are already in effect.

ADDRESSES: Maps and other supporting documentation are available for review at the following location: Bureau of Land Management, Arcata Field Office, 1695 Heindon Road, Arcata, CA 95521.

FOR FURTHER INFORMATION CONTACT: Bruce Cann, Outdoor Recreation Planner or Michael Dodson, Law Enforcement Ranger, at the above address. Telephone (707) 825-2300.

SUPPLEMENTARY INFORMATION: The purpose of the existing rules and regulations is to preserve and protect rare and endangered plant and animal species, protect cultural resources, reduce conflicts among different types of recreation uses, and to protect public property and facilities. The purpose of this supplementary rule is to make permanent existing temporary emergency closures and to provide citation authority. Any person who fails to comply with this supplementary rules and regulations is subject to arrest and/or a fine of up to $100,000 and/or imprisonment not to exceed 12 months, sec 18 U.S.C. section 3571.

Lynda J. Roush,
Arcata Field Manager.

[FR Doc. 00-2807 Filed 2-4-00; 8:45 am]

BILLING CODE 4310-40-P